DEPARTMENT OF VETERANS AFFAIRS

Geriatrics and Gerontology Advisory Committee; Notice of Meeting

The Department of Veterans Affairs gives notice under Public Law 92-463 (Federal Advisory Committee Act) that a meeting of the Geriatrics and Gerontology Advisory Committee (GGAC) will be held on May 21-22, 2003, at the Department of Veterans Affairs Central Office, 811 Vermont Avenue, NW., Room 145, Washington, DC. The meeting will convene at 8:30 a.m. and conclude at 5 p.m. on May 21, and resume at 8:30 a.m. and conclude at noon on May 22, 2003. The meeting is open to the public.

The purpose of the Committee is to provide advice to the Secretary of Veterans Affairs and the Under Secretary for Health on all matters pertaining to geriatrics and gerontology by assessing the capability of VA health care facilities to meet the medical, psychological and social needs of older veterans and by evaluating VA facilities designated at Geriatric Research, Education and Clinical Centers (GRECCs).

On May 21, the topics to be presented and discussed include:

• Update on current issues of the Millennium Act.

• Update on VA's Aging Research Activities.

• Update on VA's Geriatrics Training Program.

• Site visits to GRECCs.

• Review draft Committee report on VA's Direction in Long-Term Care and GRECC Site Visits.

On May 22, the Committee receive briefings on VA's activities in Geriatrics and Extended Care and Vision for Geriatrics and Long-Term Care.

No time will be allocated at this meeting for receiving oral presentations from the public. Interested parties can provide written comments for review by the Committee in advance to the meeting to Ms. Marsha Goodwin, Chief, Geriatrics Programs (114), Department of Veterans Affairs, 810 Vermont Avenue, NW., Washington, DC 20420. Individuals who wish to attend the meeting should contact Ms. Jacqueline Holmes, Staff Assistant, Geriatrics and Extended Care Strategic Healthcare Group at (202) 273-8539.

Dated: April 25, 2003.
By Direction of the Secretary.
E. Philip Riggin,
Committee Management Officer.

[FR Doc. 03-10856 Filed 5-1-03; 8:45 am]

BILLING CODE 8320-01-M